DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on June 25, 2002, at the American Legion Building, 1608 K Street, NW., Washington, DC. The meeting will convene at 7:30 a.m. and adjourn at 3:30 p.m. The meeting will be open to the public.

The purpose of the Committee is to provide advice and make recommendations to the Secretary of Veterans Affairs on proposed research studies, research plans and research strategies relating to the health consequences of military service in the Southwest Asia theatre of operations during the Persian Gulf War.

The meeting will begin with a presentation of the Committee's interim report and will be followed by a discussion on research studies. Throughout the day, Committee members will present and discuss key scientific research and research recommendation proposals affecting Gulf War veterans. The meeting will include opportunities to discuss the materials presented during the day.

Members of the public may submit written statements for the Committee's review to Ms. Laura O'Shea, Committee Manager, at Department of Veterans Affairs (008A1), 810 Vermont Avenue, NW., Washington, DC 20420. Any member of the public wishing further information should contact Ms. O'Shea at (202) 273-5031.

Dated: May 29, 2002.
By Direction of the Secretary.
Nora E. Egan,
Committee Management Officer.

[FR Doc. 02-14099 Filed 6-5-02; 8:45 am]

BILLING CODE 8320-01-M